DEPARTMENT OF THE TREASURY

Agency Information Collection Activities; Submission for OMB Review; Comment Request; TreasuryDirect

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before September 27, 2019 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Bureau of the Fiscal Service (BFS)

Title: TreasuryDirect.

OMB Control Number: 1535-0138.

Type of Review: Extension without change of a currently approved collection.

Description: The information is requested to establish a new TreasuryDirect account and process transactions.

Form: FS Form 5444, FS Form 5446, FS Form 5511, FS Form 5512.

Affected Public: Individuals and households.

Estimated Number of Respondents: 3,549,700.

Frequency of Response: Once, On occasion.

Estimated Total Number of Annual Responses: 3,549,700.

Estimated Time per Response: Varies from 2 to 30 minutes, depending on form and filing method.

Estimated Total Annual Burden Hours: 151,070.

Authority: 44 U.S.C. 3501 et seq.

Dated: August 22, 2019.
Spencer W. Clark,
Treasury PRA Clearance Officer.

[FR Doc. 2019-18479 Filed 8-27-19; 8:45 am]

BILLING CODE 4810-AS-P